DEPARTMENT OF LABOR

Employment and Training Administration

Comment Request for Information Collection for Pre-Apprenticeship—Pathways to Success, New Collection

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), that collection instruments are clearly understood, and that the impact of collection requirements on respondents can be properly assessed.

Currently, ETA is soliciting comments concerning the collection of data about quality pre-apprenticeship programs that prepare qualified entrants for registered apprenticeships and contribute to the development of a diverse and skilled workforce.

DATES: Submit written comments to the office listed in the addresses section below on or before January 26, 2015.

ADDRESSES: Submit written comments to John V. Ladd, Administrator, Office of Apprenticeship, Room N-5311, Employment and Training Administration, U.S. Department of Labor, 200 Constitution Avenue NW., Washington, DC 20210. Telephone number: 202-693-2796 (this is not a toll-free number). Fax: 202-693-3799. Email: ladd.john@dol.gov. A copy of the proposed information collection request (ICR) can be obtained by contacting the office listed above.

FOR FURTHER INFORMATION CONTACT: John V. Ladd, Administrator, Office of Apprenticeship, Room N-5311, Employment and Training Administration, U.S. Department of Labor, 200 Constitution Avenue NW., Washington, DC 20210. Telephone number: 202-693-2796 (this is not a toll-free number).

SUPPLEMENTARY INFORMATION:

I. Background

Through a variety of approaches, pre-apprenticeship programs can be adapted to meet the needs of differing populations being trained, the various employers and sponsors they serve, and the specific opportunities available in the local labor market. The development of an online database of quality pre-apprenticeship programs will provide a valuable tool for job seekers, Registered Apprenticeship program sponsors, and America's Job Center front line staff. A dedicated database will provide a way for job seekers and Registered Apprenticeship programs to access pre-apprenticeship programs that meet the requirements outlined in Training and Employment Notice (TEN) 13-12: “Defining a Quality Pre-Apprenticeship Program and Related Tools and Resources.” In 2009, ETA consulted with stakeholders and partners, including through several in-person listening sessions with labor, employers and the public and through webinars targeted at workforce development partners. In addition, ETA engaged the Secretary's Advisory Committee on Apprenticeship (ACA) to develop recommendations that resulted in the development of TEN 13-12. The development and implementation of a “pre-apprenticeship pathways to success” database will enable ETA to identify pre-apprenticeship programs that meet the “quality pre-apprenticeship” definition and the quality framework criteria. Even more importantly, a national database of pre-apprenticeship programs will facilitate connections between pre-apprenticeship program participants and registered apprenticeship program sponsors, resulting in expanded opportunities. This voluntary data collection will be accomplished using an online form. The public seeking information about pre-apprenticeship programs would go to a map on a Web site, choose a state, and view information about the location of pre-apprenticeship programs, including general descriptions of the services and training they provide.

II. Review Focus

The Department is particularly interested in comments which:

• Address whether the proposed collection of information is necessary for the proper performance of the functions of the agency, including whether the information will have practical utility;

• address the accuracy of the agency's estimate of the burden that would be imposed by the proposed collection of information, including the validity of the methodology and assumptions used;

• address ways in which ETA can enhance the quality, utility, and clarity of the information to be collected; and

• address ways in which ETA can minimize the burden of the information collection on respondents, such as through the use of automated, electronic, mechanical, or other technological collection techniques or other forms of information technology.

III. Current Actions

Type of Review: New collection.

Title: Pre-Apprenticeship—Pathways to Success.

OMB Number: 1205-0NEW.

Affected Public: Private sector (businesses or other for-profits and not-for-profit institutions).

Estimated Total Annual Respondents: 100.

Estimated Total Annual Responses: 100.

Estimated Total Annual Burden Hours: 16.7 hours.

Total Estimated Annual Other Costs Burden: $69.

We will summarize and/or include in the request for OMB approval of the ICR, the comments received in response to this comment request. In addition, those comments will become part of the public record.

Portia Wu,
Assistant Secretary for Employment and Training, Labor.

[FR Doc. 2014-27875 Filed 11-24-14; 8:45 am]

BILLING CODE 4510-FR-P